NATIONAL COUNCIL ON DISABILITY

Sunshine Act Meetings

TIME AND DATES: The Members of the National Council on Disability (NCD) will hold a quarterly meeting on Friday, December 2, 2016 via teleconference from 12:00 p.m.-2:15 p.m., Eastern.

PLACE: The meeting will occur by phone. NCD staff will participate in the call from the NCD office at 1331 F Street NW., Suite 850, Washington, DC 20004. Interested parties may join the meeting in person at the NCD office or may join the phone line in a listening-only capacity (other than the period allotted for public comment noted below) using the following call-in information:

Teleconference number: 888-221-9508; Conference ID: 3506445; Conference Title: NCD Meeting; Host Name: Clyde Terry.

MATTERS TO BE CONSIDERED: The Council will receive an update on the Council's ongoing policy projects; the agency's finances; legislative activity; and the agency's annual progress report. The Council will also vote on a change to its bylaws. The Council will receive public comment on poverty and disability.

AGENDA: The times provided below are approximations for when each agenda item is anticipated to be discussed (all times Eastern):

Friday, December 2

12:00-12:05 p.m.—Welcome and Call to Order

12:05-12:10 p.m.—Attendance and Roll Call

12:10-12:15 p.m.—Approval of July Minutes

12:15-12:25 p.m.—Chairperson's Report

12:25-12:35 p.m.—Executive Director's Report

12:35-12:45 p.m.—Policy Update

12:45-1:05 p.m.—Finance Update

1:05-1:15 p.m.—Legislative Update

1:15-1:20 p.m.—Vote on Bylaw Change

1:20-1:35 p.m.—Progress Report Update

1:35-2:05 p.m.—Public Comment

2:05-2:15 p.m.—Council Discussion

2:15 p.m.—Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, November 30, 2016. Priority will be given to those individuals who are in-person to provide their comments during the town hall portions of the agenda. Those commenters on the phone will be called on according to the list of those registered via email. Due to time constraints, NCD asks all commenters to limit their comments to three minutes. Comments received at the quarterly meeting will be limited to the topic of disability and poverty.

CONTACT PERSON: Anne Sommers, NCD, 1331 F Street NW., Suite 850, Washington, DC 20004; 202-272-2004 (V), 202-272-2074 (TTY).

ACCOMMODATIONS: A CART streamtext link has been arranged for this teleconference meeting. The Web link to access CART on Friday, December 2, 2016 is: https://www.streamtext.net/player?event=NCD.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: November 9, 2016.
Rebecca Cokley,
Executive Director.

[FR Doc. 2016-27447 Filed 11-9-16; 4:15 pm]

BILLING CODE 8421-03-P